COMMITTEE FOR PURCHASE FROM PEOPLE WHO ARE BLIND OR SEVERELY DISABLED

Procurement List; Additions

AGENCY: Committee for Purchase From People Who Are Blind or Severely Disabled.

ACTION: Additions to Procurement List.

SUMMARY: This action adds to the Procurement List products and services to be furnished by nonprofit agencies employing persons who are blind or have other severe disabilities.

DATES: Effective Date: 8/31/2009.

ADDRESSES: Committee for Purchase From People Who Are Blind or Severely Disabled, Jefferson Plaza 2, Suite 10800, 1421 Jefferson Davis Highway, Arlington, Virginia 22202-3259.

FOR FURTHER INFORMATION CONTACT: Barry S. Lineback, Telephone: (703) 603-7740, Fax: (703) 603-0655, or e-mail CMTEFedReg@AbilityOne.gov.

SUPPLEMENTARY INFORMATION:

Additions

On May 22, 2009 (74 FR 23999-24000); May 29, 2009 (74 FR 25717-25718); and June 5, 2009 (74 FR 27022-27023), the Committee for Purchase From People Who Are Blind or Severely Disabled published notices of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following the products and services are added to the Procurement List:

Products

NSN: 6230-01-514-0921—Kit, Safety, Lighting.

NSN: 6230-01-514-0920—Kit, Safety, Lighting.

NSN: 6230-01-513-2551—Kit, Safety, Lighting.

NSN: 6230-01-513-1934—Kit, Safety, Lighting.

NSN: 6230-01-513-1933—Kit, Safety, Lighting.

NSN: 6230-01-513-1930—Kit, Safety, Lighting.

NSN: 6230-01-513-1925—Kit, Safety, Lighting.

NSN: 6230-01-513-1924—Kit, Safety, Lighting.

NSN: 6230-01-513-1920—Kit, Safety, Lighting.

NPA: The Arc of Bergen and Passaic Counties, Inc., Hackensack, NJ.

Contracting Activity: Defense Logistics Agency, Defense Supply Center Philadelphia, Philadelphia, PA.

Coverage: C-list for the total requirement of the Defense Supply Center Philadelphia, Philadelphia, PA.

Services

Service Type/Location: Custodial Services, Mercedita Airport, State Road No.1, Ponce, PR; International Mail Facility, LMM Airport, Tony Santana Ave, San Juan, PR.

NPA: The Corporate Source, Inc., New York, NY.

Contracting Activity: Bureau of Customs and Border Protection, National Acquisition Center, Indianapolis, Indiana.

Service Type/Location: Grounds Maintenance Service, Marine Corps Reserve Center, 8820 Somers Rd., Jacksonville, FL.

NPA: Challenge Enterprises of North Florida, Inc., Green Cove Springs, FL.

Contracting Activity: Dept of the Navy, Navy Facilities Engineering Command, Norfolk, VA.

Service Type/Location: Supply Room Support Services, Defense Contract Management Agency (DCMA) Headquarters, 6350 Walker Lane, Alexandria, VA.

NPA: Virginia Industries for the Blind, Charlottesville, VA.

Contracting Activity: Defense Contract Management Agency (DCMA), Alexandria, VA.

Service Type/Location: Document Management, USFS Pacific Northwest Region, Region 6, and the Pacific Northwest Research Station, 5312 NE., 148th Avenue, Portland, OR.

NPA: Portland Habilitation Center, Inc., Portland, OR.

Contracting Activity: Forest Service, Northwest Oregon Contracting Area, Sandy, OR.

Service Type/Location: Furniture Services, MCOLF Atlantic Field, Air Base Road, Atlantic, NC; MCALF Bogue Field, HWY 70, Bogue, NC; MCAS Cherry Point, Hwy 101, Cherry Point, NC.

NPA: Coastal Enterprises of Jacksonville, Inc., Jacksonville, NC.

Contracting Activity: Department of the Navy, Marine Corps Air Station, Cherry Point MCAS, NC.

Service Type/Location: Vehicle Retrofitting Service, Retrofit Facility (Prime Contract): Bremerton, WA; Skookum Contract Services, 2600 Burwell Street Bremerton, WA.

NPA: Skookum Educational Programs, Bremerton, WA.

Service Type/Location: Vehicle Retrofitting Service, Good Vocations, Inc., 5171 Eisenhower Parkway, Macon, GA.

NPA: Good Vocations, Inc., Macon, GA.

Contracting Activity: Bureau of Customs and Border Protection, SBI Acquisition Office, Washington, DC.

Requirement: 100% of the vehicles that overflow/exceed the capacity of Federal Prison Industries' to provide the service; designated NPA will each produce 50% of the requirement of overflow of vehicles.

Barry S. Lineback,
Director, Business Operations.

[FR Doc. E9-18269 Filed 7-30-09; 8:45 am]

BILLING CODE 6353-01-P